SMALL BUSINESS ADMINISTRATION

[Disaster Declaration #20459 and #20460; SAN CARLOS APACHE TRIBE Disaster Number AZ-20005]

Presidential Declaration Amendment of a Major Disaster for the San Carlos Apache Tribe

AGENCY: U.S. Small Business Administration.

ACTION: Amendment 1.

SUMMARY: This is an amendment of the Presidential declaration of a major disaster for the San Carlos Apache Tribe (FEMA-4833-DR), dated 10/04/2024.

Incident: Watch Fire.

Incident Period: 07/10/2024 through 07/17/2024.

DATES: Issued on 10/21/2024.

Physical Loan Application Deadline Date: 12/16/2024.

Economic Injury (EIDL) Loan Application Deadline Date: 07/07/2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: The notice of the President's major disaster declaration for the San Carlos Apache Tribe, dated 10/04/2024, is hereby amended to extend the deadline for filing applications for physical damages as a result of this disaster to 12/16/2024.

All other information in the original declaration remains unchanged.

(Catalog of Federal Domestic Assistance Number 59008)

Rafaela Monchek,
Deputy Associate Administrator, Office of Disaster Recovery & Resilience.

[FR Doc. 2024-24915 Filed 10-25-24; 8:45 am]

BILLING CODE 8026-09-P